DEPARTMENT OF STATE

[Public Notice 3928]

Bureau of Educational and Cultural Affairs Request for Grant Proposals (ECA/PE/C-02-27): Intercultural Public-Private Fellows Program for Africa, Eurasia, Latin America, the Middle East, and South Asia

Summary: Subject to the availability of funds, the Office of Citizen Exchanges of the Bureau of Educational and Cultural Affairs (ECA) announces an open grant competition to conduct a new initiative entitled, “The Intercultural Public Private Fellows Program” (ICPP Fellows Program). Public and private non-profit organizations meeting the provisions described in Internal Revenue Code section 26 USC 501(c)(3) may submit proposals to conduct this exchange program. The goal of the ICPP Fellows Program is to foster mutual understanding by bringing together American and foreign arts practitioners for an intercultural educational dialogue. The program will achieve this by introducing America's most talented visual, performing, film and literary arts professionals around the world; bringing foreign counterparts to various regions of the United States in order to expose American audiences to other cultural arts traditions; and building linkages between the most prominent foreign and American arts education and cultural institutions. The proposal should include an equal number of foreign and American fellows in this reciprocal exchange program. Each applicant's program design must specify an appropriate theme and a proposed geographic region and/or list of countries that will participate. Multi-country programs are strongly encouraged. Cross-regional programs are also eligible where the program theme relates to multiple regions. Proposals for countries and regions with significant Muslim populations are strongly encouraged. ECA is committed to geographic diversity in its programs and invites proposal submissions for the ICPP Fellows Program from the many notable and prestigious institutions and organizations located throughout the geographic regions of the U.S.

ECA expects to award 2-4 grants of up to $250,000 in ECA funding (subject to funding availability), with significant cost sharing (approximately 50%) from the applicant institution and/or other sources. Organizations with less than four years of experience in conducting international exchange programs are not eligible for this competition.

Program Information

Overview

The “Intercultural Public Private Fellows Program” is designed to foster mutual understanding and encourage an international cultural arts and educational dialogue through exchange activities, community outreach and joint projects. The ICPP Fellows Program is intended to be a reciprocal exchange of highly accomplished individuals or groups that builds linkages and promotes joint projects between prominent arts education and cultural institutions, during the grant period and continuing after the program ends. The eligible regions for FY 2002 are Africa, Eurasia, Latin America, the Middle East, and South Asia. ECA strongly encourages proposals for countries and regions with significant Muslim populations.

Proposals for the ICPP Fellows Program should provide opportunities for American and foreign ICPP Fellows to travel on exchange visits, bringing their art and expertise to the most notable halls, galleries, museums and institutions in the U.S. and overseas. The fellows would also participate in workshops and master classes led by well-known and highly regarded artists and cultural arts professionals. To address mutual understanding and respect, and as a main component of this program, American and foreign fellows would engage in community outreach and presentation of educational programs in their host communities and at home upon their return. The proposal should indicate that an approximately equal number of foreign and American fellows will participate in a reciprocal exchange program, and that the program design will contribute to building and supporting strong linkages between and among American and foreign ICPP Fellows, and with their home and host institutions. These linkages would continue after the ICPP Fellows Program grant period has ended.

Applicant organizations must demonstrate the ability to administer all aspects of the ICPP Fellows Program—recruitment and selection of an equal number of American and foreign fellows, orientations, program activities, monitoring and support of ICPP Fellows including all logistics, financial management and evaluation. Applicant organizations must demonstrate the ability to recruit and select a diverse pool of candidates from various geographic regions in the U.S. and abroad, and will be expected to help ICPP fellows develop follow-on ideas and projects to be implemented upon return to their home countries. Further detail and clarification of specific program responsibilities can be found in the Project Objectives, Goals, and Implementation (POGI) Statement, which is part of the formal solicitation package.

Organizations planning to submit a proposal for the ICPP Fellows Program should contact the program office for a consultation before the submission deadline. Before contacting ECA, organizations should read the entireFederal Register announcement and be ready to discuss a concrete concept specific to the guidelines supplied in this request for grant proposals. To schedule a consultation, contact Karen Turner at (202) 205-3003; Fax: (202) 619-4350; e-mail: kturner@pd.state.gov.

Guidelines

Pending availability of funds, all grants will begin on approximately September 1, 2002. ECA anticipates awarding up to four grants under this competition.

Proposals should reflect a practical understanding of the 4144ent cultural, political, economic and social environment relevant to the applicant organization's proposed program theme and the countries or regions involved. If applicable, applicants should identify the U.S. and foreign partner organizations with whom they are proposing to collaborate, and describe previous cooperative projects in the section on “Institutional Capacity.”

Program activities may include, but are not limited to: An open, merit-based recruitment and selection process; orientations; workshops and master classes; performances, readings, productions, screenings, exhibits and other similar activities; community outreach & educational activities; development and implementation of joint projects; monitoring & support; and evaluation. Orientations are required for both American and foreign fellows, and should include all program staff. The program should include activities that specifically promote mutual understanding and that allow the foreign program participants to experience American life and culture, and that will provide Americans an opportunity to learn about the cultures of the foreign host countries.

The ICPP Fellows Program must conform to ECA requirements and guidelines outlined in the Solicitation Package. ECA programs are subject to the availability of funds and must comply with J-1 Visa regulations. Please refer to the Solicitation Package for further information.

Budget Guidelines

ECA grant guidelines limit organizations with less than four years experience conducting international exchanges to $60,000 in Bureau grant support. Because of the scope and complexity of this program, organizations with less than four years experience in conducting international exchanges are not eligible to apply under this competition.

ECA encourages applicant organizations to provide maximum levels of cost sharing and funding from private sources in support of its programs. Applicant organizations must submit a comprehensive line item budget to include a summary budget as well as breakdowns reflecting both administrative and program budgets. Applicants may provide separate sub-budgets for each program component, phase, location, or activity to provide clarification. A comprehensive budget narrative must accompany the line item budget, clearly explaining all proposed costs. Please refer to the Solicitation Package for complete budget guidelines and formatting instructions.

Cost sharing: Organizations should provide approximately fifty (50) percent cost sharing. Since the Bureau's grant assistance constitutes only a portion of total project funding, proposals should list and provide evidence of other sources of cost sharing, including financial and in-kind support. In-kind contributions may include, but are not limited to, donations of airfares, hotel and/or housing costs, consultant fees, ground transportation, interpreters, room rentals and equipment. Proposals with substantial private sector support from foundations, corporations, and other institutions will be considered highly competitive. Please refer to the statement on cost sharing in the Proposal Submission Instructions.

Allowable costs for the program include the following:

(1) General Program Costs.

(2) Participant Program Costs.

(3) Administrative Expenses.

Review of your budget will benefit from your professional judgment of costs for activities in the proposal. The Bureau is committed to containment of administrative expenses, consistent with overall program objectives and sound management principles. Program activities and line items to be cost-shared should be included in the narrative and the budget. Please refer to the Proposal Submission Instructions (PSI) in the Solicitation Package for complete budget guidelines.

Project Funding

Proposals may include budgets of up to $250,000 in ECA funding, not including cost sharing from the applicant institution and/or other sources. All applicants must demonstrate in the proposal narrative a minimum of four years experience conducting international exchanges.

Announcement Title and Number

All communications with ECA concerning this Request for Grant Proposals (RFGP) should refer to the announcement title: “ICPP Fellows Program” and reference number: ECA/PE/C-02-27.

Deadline for Proposals

All copies must be received by the U.S. Department of State, Bureau of Educational and Cultural Affairs, by 5 p.m. Washington, DC time on Wednesday, April 24, 2002. Faxed documents will not be accepted at any time. The mailroom closes at 5 p.m. sharp; no late submissions will be accepted. Documents postmarked or sent by express mail or courier to arrive by April 24, 2002, but received at a later date, will not be accepted. Each applicant must ensure that the proposals are received by the above deadline.

To Download an Application Package via the Internet

The entire Application Package (RFGP, POGI and PSI) may be downloaded from the Bureau's website at http://exchanges.state.gov/education/rfgps/.

For Further Information Contact: Mailing address: United States Department of State, SA-44, Bureau of Educational and Cultural Affairs, Office of Citizen Exchanges (ECA/PE/C), Room 220, Washington, DC 20547, attn: ICPP Fellows Program ECA/PE/C-02-27. Tel: (202) 205-3003; Fax: 202-619-4350; E-mail: kturner@pd.state.gov.

Interested applicants may request a copy of the Application

Package. Please specify: “ICPP Fellows Program ECA/PE/C-02-27” on all inquiries and correspondence. All potential applicants should read the complete announcement before sending inquiries or submitting proposals.

Review Process

The Bureau will acknowledge receipt of all proposals and will review them for technical eligibility. Proposals will be deemed ineligible if they do not fully adhere to the guidelines stated herein and in the Solicitation Package. All eligible proposals will be reviewed by the program office, as well as the Public Affairs Sections of the U.S. embassies overseas, where appropriate. Eligible proposals will be forwarded to panels of ECA officers for advisory review. Proposals may also be reviewed by the Office of the Legal Adviser or by other Department elements. Final funding decisions are at the discretion of the Department of State's Acting Assistant Secretary for Educational and Cultural Affairs. Final technical authority for assistance awards resides with ECA's Grants Officer.

Submissions

Applicants must follow all instructions given in the Solicitation Package (RFGP, POGI, PSI). The applicant's original proposal and ten (10) copies should be sent to: U.S. Department of State, Ref.: ECA/PE/C-02-27, Program Management, ECA/EX/PM, Room 534, 301 4th Street, SW, Washington, DC 20547.

Applicants must also submit the “Executive Summary,” “Proposal Narrative” and “Budget” sections of the proposal on a 3.5″ diskette. The Bureau will transmit these files electronically to the Public Affairs Sections at the U.S. Embassies for review, with the goal of reducing the time it takes to get embassy comments for the Bureau's grants review process. Once the RFGP deadline has passed, Bureau staff may not discuss this competition in any way with applicants until the proposal review process has been completed.

Review Criteria

Technically eligible applications will be competitively reviewed according to the criteria stated below. Proposals should adequately address each area of review. These criteria are not rank ordered and all are given equal weight.

1. Quality of the Program Idea

2. Program Planning and Ability to Achieve Objectives

3. Institutional Capacity

4. Cost Effectiveness and Cost Sharing

5. Program Evaluation

6. Multiplier Effect/Impact

7. Follow-on Activities

8. Support of Diversity

Applicants should refer to the POGI in the Solicitation Package for more detailed information on the review criteria.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau or program officers that contradicts published language will not be binding. Issuance of the RFGP does not constitute an award commitment on the part of the U.S. Government. The Bureau reserves the right to reduce, revise, or increase proposal budgets in accordance with the needs of the program and the availability of funds. Awards made will be subject to periodic reporting and evaluation requirements. Organizations will be expected to cooperate with the Bureau in evaluating their programs under the principles of the Government Performance and Results Act (GPRA) of 1993, which requires federal agencies to measure and report on the results of their programs and activities.

Notification

Final awards cannot be made until funds have been appropriated by Congress, allocated and committed through internal U.S. Department of State procedures.

Dated: February 21, 2002.
Patricia S. Harrison,
Assistant Secretary for Educational and Cultural Affairs, U.S. Department of State.

[FR Doc. 02-4854 Filed 2-27-02; 8:45 am]

BILLING CODE 4710-05-P